DEPARTMENT OF THE TREASURY

Office of Thrift Supervision

[AC-7: OTS Nos. H-3867 and 03309]

TierOne Corporation, Lincoln, NE; Approval of Conversion Application

Notice is hereby given that on August 9, 2002, the Director, Examination Policy, Office of Thrift Supervision, or her designee, acting pursuant to delegated authority, approved the application of TierOne Bank, Lincoln, Nebraska, to convert from the mutual to the stock form of organization. Copies of the application are available for inspection by appointment (phone number: 202-906-5922 or e-mail: Public.Info@OTS.Treas.gov) at the Public Reading Room, OTS, 1700 G Street, NW., Washington, DC 20552, and the OTS Midwest Regional Office, 225 E. John Carpenter Freeway, Suite 500, Irving, Texas 75062-2326.

Dated: August 15, 2002.
By the Office of Thrift Supervision.
Nadine Y. Washington,
Corporate Secretary.

[FR Doc. 02-21163 Filed 8-19-02; 8:45 am]

BILLING CODE 6720-01-M